DEPARTMENT OF TRANSPORTATION

Office of the Secretary

[Docket No. OST-2009-0121]

Notice of Request for Information Collection Approval

AGENCY: Office of the Secretary.

ACTION: Notice.

SUMMARY: In accordance with the Paperwork Reduction Act of 1995, (44 U.S.C. 3501 et seq.) this notice announces the U.S. Department of Transportation's (DOT) intention to renew the utilization of the individual employment discrimination complaint form when processing Equal Employment Opportunity (EEO) discrimination complaints filed by applicants for employment with the Department. The Office of Management and Budget (OMB) approved the form in 2006 with its renewal required by July 31, 2009.

DATES: Comments on this notice must be received by July 21, 2009.

ADDRESSES: You may submit comments [identified by DOT Docket Number OST-2009-0121] by any of the following methods:

• Web Site: http://www.regulations.gov. Follow the instructions for submitting comments on the DOT electronic docket site.

• Fax: 202-493-2251.

• Mail: Docket Operations, U.S. Department of Transportation, 1200 New Jersey Avenue, SE., West Building, Room W12-140, Washington, DC 20590.

• Hand Delivery or Courier: West Building, Room W12-140, 1200 New Jersey Avenue, SE., Washington, DC, between 9 a.m. and 5 p.m., Monday through Friday, except on Federal holidays.

• Federal eRulemaking Portal: Go to http://www.regulations.gov. Follow the online instructions for submitting comments.

Instructions: All submissions must include the agency name (Office of the Secretary, DOT) and docket number for this rulemaking. You should provide two copies of your comments if you submit them by mail or courier. Note that all comments received will be posted without change to http://www.regulations.gov, including any personal information provided, and will be available to Internet users. You may review DOT's complete Privacy Act Statement in the Federal Register published on April 11, 2000 (65 FR 19477) or you may visit http://DocketsInfo.dot.gov.

Docket: For Internet access to the docket to read background documents and comments received, go to http://www.regulations.gov. Background documents and comments received may also be viewed at the U.S. Department of Transportation, 1200 New Jersey Avenue, SE., Docket Operations, West Building, Room W12-140, Washington, DC 20590, between 9 a.m. and 5 p.m., Monday through Friday, except Federal Holidays.

FOR FURTHER INFORMATION CONTACT: Tami Wright, Associate Director, Compliance Operations Division (S-34), Departmental Office of Civil Rights, Office of the Secretary, U.S. Department of Transportation, 1200 New Jersey Avenue, SE., Washington, DC 20590, 202-366-9370 or (TTY) 202-366-0663.

SUPPLEMENTARY INFORMATION: Form Title: Individual Complaint of Employment Discrimination.

OMB Control Number: OMB #2105-0556.

Type of Request: OMB renewal.

Abstract: DOT will utilize the form to collect information necessary to process EEO discrimination complaints filed by individuals who are not Federal employees and are applicants for employment with the Department. These complaints are processed in accordance with the Equal Employment Opportunity Commission's regulations, 29 CFR part 1614, as amended. DOT will use the form to: (a) Request requisite information from the applicant for processing his/her EEO employment discrimination complaint; and (b) obtain information to identify an individual or his or her attorney or other representative, if appropriate. An applicant's filing of an EEO employment complaint is solely voluntary. DOT estimates that it takes an applicant approximately one hour to complete the form.

Respondents: Job Applicants filing EEO employment discrimination complaints.

Estimated Number of Respondents: 10 per year.

Estimated Total Burden on Respondents: 10 hours per year.

Comments are invited on: (a) Whether the proposed collection of information is reasonable for the proper performance of the EEO functions of the Department, and (b) the accuracy of the Department's estimate of the burden of the proposed information collection. All responses to the notice will be summarized and included in the request for Office of Management and Budget approval. All comments also will become a matter of public record.

Issued in Washington, DC, on May 15, 2009.
Mary N. Whigham Jones,
Acting Director, Departmental Office of Civil Rights.

BILLING CODE 4910-9X-P

[FR Doc. E9-11988 Filed 5-21-09; 8:45 am]

BILLING CODE 4910-9X-C